DEPARTMENT OF COMMERCE

National Oceanic and Atmospheric Administration

50 CFR Part 648

[Docket No. 250320-0044; RTID 0648-XE685]

Fisheries of the Northeastern United States; Atlantic Spiny Dogfish Fishery; 2025 Specifications

AGENCY: National Marine Fisheries Service (NMFS), National Oceanic and Atmospheric Administration (NOAA), Commerce.

ACTION: Proposed rule; request for comments.

SUMMARY: NMFS proposes specifications for the 2025 Atlantic spiny dogfish fishery, as recommended by the Mid-Atlantic and New England Fishery Management Councils. This action is necessary to establish allowable harvest levels for the spiny dogfish fishery to prevent overfishing while enabling optimum yield, using the best scientific information available. This document also informs the public of the proposed fishery specifications and provides an opportunity for comment.

DATES: Comments must be received by April 10, 2025.

ADDRESSES: A plain language summary of this proposed rule is available at: https://www.regulations.gov/docket/NOAA-NMFS-2025-0010. You may submit comments on this document, identified by NOAA-NMFS-2025-0010, by any of the following methods:

• Electronic Submission: Submit all electronic public comments via the Federal e-Rulemaking Portal. Visit https://www.regulations.gov and type NOAA-NMFS-2025-0010 in the Search box. Click on the “Comment” icon, complete the required fields, and enter or attach your comments.

Instructions: Comments sent by any other method, to any other address or individual, or received after the end of the comment period, may not be considered by NMFS. All comments received are a part of the public record and will generally be posted for public viewing at: https://www.regulations.gov without change. All personal identifying information (e.g., name, address, etc.), confidential business information, or otherwise sensitive information submitted voluntarily by the sender will be publicly accessible. NMFS will accept anonymous comments (enter “N/A” in the required fields if you wish to remain anonymous).

Copies of the Draft Supplemental Information Report (SIR) and other supporting documents for this action are available upon request from Dr. Christopher M. Moore, Executive Director, Mid-Atlantic Fishery Management Council, Suite 201, 800 North State Street, Dover, DE 19901. These documents are also accessible via the internet at: http://www.mafmc.org/supporting-documents.

FOR FURTHER INFORMATION CONTACT: Laura Deighan, Fishery Policy Analyst, Laura.Deighan@noaa.gov or (978) 281-9184.

SUPPLEMENTARY INFORMATION:

Background

The Mid-Atlantic and New England Fishery Management Councils (collectively, the Councils) jointly manage the Atlantic Spiny Dogfish Fishery Management Plan (FMP), with the Mid-Atlantic Council acting as the administrative lead. Additionally, the Atlantic States Marine Fisheries Commission (Commission) manages the spiny dogfish fishery in state waters from Maine to North Carolina through an interstate fishery management plan. The Federal FMP requires the specification of an acceptable biological catch (ABC), annual catch limit (ACL), annual catch target (ACT), total allowable landings (TAL), and a coastwide commercial quota. These limits and other related management measures may be set for up to five fishing years at a time, with each fishing year running from May 1 through April 30. This action proposes Atlantic spiny dogfish specifications for fishing year 2025, as recommended by the Councils. The Commission voted to implement complementary specifications on February 4, 2025, during its winter meeting.

Research track and management track stock assessments were completed for spiny dogfish in December 2022 and September 2023, respectively. Initial findings from the research track assessment indicated that recruitment and biomass were trending downward and that the stock may be experiencing overfishing. However, the more recent management track assessment found that, with updated data and indices, the stock is not currently overfished or experiencing overfishing and remains above its biomass target.

In September 2024, the Mid-Atlantic Council's Scientific and Statistical Committee (SSC) reviewed updated spiny dogfish stock projections that incorporated: (1) a correction to the 2022 discard estimate; (2) catch information from 2023; and (3) an updated 2024 catch estimate based on the catch limits implemented in 2024. Based on this information, the SSC provided a 2025 overfishing limit (OFL) of 7,626 metric tons (mt) and an updated 2025 ABC of either a single-year ABC of 7,031 mt or a 2-year average ABC of 7,230 mt, if held constant in 2026. These ABC recommendations were based on the Mid-Atlantic Council's risk policy, which recommends a 46-percent probability of overfishing for stocks just above the biomass target, such as Atlantic spiny dogfish.

At its October 2024 meeting, the Mid-Atlantic Council considered 2025 specifications based on the averaged ABC, as provided by its SSC and recommended by the Atlantic Spiny Dogfish Committee. During the deliberations, members of the industry expressed concerns over quota reductions and the sustainability of the industry. Industry testimony at Spiny Dogfish Committee, Monitoring Committee, Advisory Panel, and the Councils' meetings during the development of the 2024 and 2025 specifications has consistently cited a commercial quota of close to 5,443 mt as the threshold for the sole remaining commercial spiny dogfish processor to remain economically viable. Given these concerns, the Mid-Atlantic Council voted to waive its risk policy and to task its SSC with providing an ABC equal to the overfishing limit using a 50-percent probability of overfishing. At its November 20, 2024, meeting, the Mid-Atlantic Council's SSC provided a revised 2025 ABC equal to the 2025 OFL of 7,626 mt.

At their December 2024 meetings, both Councils voted to adopt 2025 spiny dogfish specifications using the ABC of 7,626 mt. The Councils determined that a 50-percent probability of overfishing was an acceptable level of risk for the 2025 specifications given the previously described industry testimony and that the stock is expected to increase to 113 percent of its biomass target in 2026 (from 101 percent in 2022) under these catch limits. After accounting for estimated catch from other sources (i.e., Canadian landings, domestic discards, and recreational landings), this resulted in a commercial quota of 4,236 mt.

The largest uncertainty in these specifications is in the discard estimate. These specifications use a discard set-aside that is the mid-point of the most recent 5-year average and the previously accepted “model-based projection” (generated by applying the 2022 ratio of discards to total catch to the year-specific ABC). The Atlantic Spiny Dogfish Committee recommended the mid-point of multiple reasonable approaches as a common method to deal with uncertainty and to reduce the likelihood of future ACL reductions to account for overages. The Councils agreed, and NMFS concurs, that substantial precaution is taken, and uncertainty accounted for, within the specifications process, including within this discard estimate, and that no additional management uncertainty buffer is warranted at this time.

This action proposes no changes to other management measures, such as trip limits.

Proposed Specifications

This action proposes the Councils' recommendations for the 2025 Atlantic spiny dogfish catch specifications, which are consistent with the ABC provided by the Mid-Atlantic Council's SSC and the best available science. These proposed specifications would decrease all catch limits by between 2 and 18 percent. The resulting recommended coastwide commercial quota would be 4,236 mt, which is an 18-percent decrease from 2024. These decreases are the result of the higher, corrected 2022 discard estimate; discards that were higher than expected in 2023, and a more precautionary discard estimate for 2025. A comparison of the initial 2024 and proposed 2025 specifications is summarized below in table 1.

Table 1—Comparison of Initial 2024 ¹ and Proposed 2025 Atlantic Spiny Dogfish Fishery Specifications
| 2025 (Proposed): Million lb | 2025 (Proposed): Metric tons | 2024: Million lb | 2024: Metric tons | Percent change
ABC | 16.81 | 7,626 | 17.24 | 7,818 | −2
ACL = ACT | 16.8 | 7,622 | 17.16 | 7,782 | −2
TAL | 9.58 | 4,347 | 11.58 | 5,252 | −17
Commercial Quota | 9.34 | 4,236 | 11.33 | 5,140 | −18
¹ The 2024 quota was subsequently reduced by 491 mt to account for a 2023 ACL overage, as required by the regulations at 50 CFR 648.233(c).

Neither of the Councils recommended changes to any other management measures as a part of these specifications, and we agree that none are necessary. Therefore, all other management measures, including trip limits, would remain unchanged for fishing year 2025.

Classification

Pursuant to section 305(d) of the Magnuson Stevens Fishery Conservation and Management Act (Magnuson-Stevens Act; 16 U.S.C. 1855(d)), the NMFS Acting Assistant Administrator has determined that this proposed rule is consistent with the Atlantic Spiny Dogfish FMP, other provisions of the Magnuson-Stevens Act, and other applicable law, subject to further consideration after public comment.

Section 304(b) of the Magnuson-Stevens Act (16 U.S.C. 1854(b)) requires publication of proposed regulations in the Federal Register with a public comment period of 15 to 60 days. NMFS finds that a 15-day comment period for this action provides a reasonable opportunity for public participation in this action pursuant to Administrative Procedure Act section 553(c) (5 U.S.C. 553(c)), while also ensuring that the final specifications are in place as close to the start of the spiny dogfish fishing year on May 1, 2025, as possible. This is a routine specifications action that occurs every year, and stakeholder and industry groups have been involved with the development of this action and have participated in public meetings throughout their development over the past year. A longer comment period here would be contrary to the public interest, as it could extend this rulemaking beyond the start of the 2025 fishing year, resulting in confusion both in the spiny dogfish industry around current quotas and with state agencies as they prepare their annual management measures.

This action is exempt from review under Executive Order 12866 because it contains no implementing regulations.

The Chief Counsel for Regulation of the Department of Commerce certified to the Chief Counsel for Advocacy of the Small Business Administration that this proposed rule, if adopted, would not have a significant economic impact on a substantial number of small entities. The factual basis for this determination is as follows.

The Councils conducted an evaluation of the potential socioeconomic impacts of the proposed specifications in a Supplemental Information Report (SIR). There are no proposed regulatory changes in this spiny dogfish action, so none are considered in the evaluation. Relative to specifications implemented in 2024, the proposed specifications would decrease the 2025 ABC by 2 percent, and the coastwide commercial quota by 18 percent in response to updated stock projections based on updated catch information. This action proposes no changes to other management measures beyond the specifications, such as trip limits.

This proposed action would affect entities that hold Federal commercial fishing permits for Atlantic spiny dogfish. Vessels may hold multiple fishing permits, and some entities own multiple vessels and/or permits. According to the Northeast Fisheries Science Center commercial ownership database, 1,809 separate vessels held commercial spiny dogfish permits in 2023, the most recent year of fully available data. A total of 1,343 commercial entities owned those permitted vessels. Of those entities, 1,333 are categorized as small entities and 10 as large entities.

This action would generally maintain similar spiny dogfish specifications and commercial quota at a level above the most recent landings year (2023). Landings were 8.5 million lb (3,856 mt) in fishing year 2023, and this action's proposed quota is 9.3 million lb (4,218 mt). Further, because the Magnuson-Stevens Act and National Standard 1 require NMFS to prevent overfishing with at least a 50-percent probability, there are no viable alternatives that would lessen impacts on affected entities. There is also no information that the action might impact small businesses differently than large businesses or unduly inhibit the ability of small entities to compete. All permitted vessels have an equal opportunity to harvest spiny dogfish while quota remains available, and all permitted vessels are subject to the same Federal waters trip limit. Therefore, the Councils concluded, and NMFS agrees, that this action would not have a significant economic impact on a substantial number of small entities. As a result, an initial regulatory flexibility analysis is not required and none has been prepared.

This action would not establish any new reporting or record-keeping requirements.

This proposed rule contains no information collection requirements under the Paperwork Reduction Act of 1995.

Authority: 16 U.S.C. 1801 et seq.

Dated: March 20, 2025.
Samuel D. Rauch III,
Deputy Assistant Administrator for Regulatory Programs, National Marine Fisheries Service.

[FR Doc. 2025-05046 Filed 3-25-25; 8:45 am]

BILLING CODE 3510-22-P